SUSQUEHANNA RIVER BASIN COMMISSION

Actions Taken at September 17, 2021 Meeting

AGENCY: Susquehanna River Basin Commission.

ACTION: Notice.

SUMMARY: As part of its regular business meeting held on September 17, 2021, from Harrisburg, Pennsylvania, the Commission approved the applications of certain water resources projects, and took additional actions, as set forth in the Supplementary Information below.

DATES: September 17, 2021.

ADDRESSES: Susquehanna River Basin Commission, 4423 N. Front Street, Harrisburg, PA 17110-1788.

FOR FURTHER INFORMATION CONTACT: Jason E. Oyler, General Counsel and Secretary, telephone: (717) 238-0423, ext. 1312, fax: (717) 238-2436; email: joyler@srbc.net. Regular mail inquiries may be sent to the above address. See also Commission website at www.srbc.net.

SUPPLEMENTARY INFORMATION: In addition to the actions taken on projects identified in the summary above and the listings below, the following items were also acted upon at the business meeting: (1) Adoption of final rulemaking and three groundwater related policies; (2) adoption of current expense budget for FY2023; (3) adoption of member jurisdictions allocation for FY2023; (4) ratification of a grant and letter of understanding; (5) acceptance of a settlement offer for passby violations; and (6) an emergency certificate extension for Mott's LLP.

Project Applications Approved:

1. Project Sponsor and Facility: Aqua-ETC Water Solutions, LLC (West Branch Susquehanna River), Piatt Township, Lycoming County, Pa. Modification to update flow protection rates to be in accordance with current Low Flow Protection Policy No. 2012-01 (Docket No. 20120302).

2. Project Sponsor and Facility: ARD Operating, LLC (Loyalsock Creek), Hillsgrove Township, Sullivan County, Pa. Application for surface water withdrawal of up to 1.700 mgd (peak day).

3. Project Sponsor and Facility: Blossburg Municipal Authority, Hamilton Township, Tioga County, Pa. Application for renewal of groundwater withdrawal of up to 0.245 mgd (30-day average) from Well 1 (Docket No. 19890105).

4. Project Sponsor and Facility: Village of Greene, Chenango County, N.Y. Application for renewal of groundwater withdrawal of up to 0.181 mgd (30-day average) from Well 3 (Docket No. 19970303).

5. Project Sponsor: New York State Office of Parks, Recreation and Historic Preservation. Project Facility: Indian Hills State Golf Course (Irrigation Pond), Towns of Erwin and Lindley, Steuben County, N.Y. Applications (30-day averages) for surface water withdrawal of up to 0.300 mgd and consumptive use of up to 0.300 mgd.

6. Project Sponsor and Facility: Pennsylvania State University, Ferguson Township, Centre County, Pa. Applications for renewal of groundwater withdrawal of up to 0.960 mgd (30-day average) from Well UN-37 and consumptive use of up to 1.620 mgd (peak day) (Docket No. 19890106-1).

7. Project Sponsor and Facility: Selinsgrove Municipal Authority, Borough of Selinsgrove and Penn Township, Snyder County, Pa. Applications for groundwater withdrawals (30-day averages) of up to 0.465 mgd from Well 3 and renewal of up to 0.707 mgd from Well4 (Docket No. 19910904).

8. Project Sponsor: SUEZ Water Pennsylvania, Inc. Project Facility: Newberry Operation, Newberry Township, York County, Pa. Application for renewal of groundwater withdrawal of up to 0.043 mgd (30-day average) from the Eden Well (Docket No. 19910102).

9. Project Sponsor and Facility: Transcontinental Gas Pipe Line Company, LLC (Susquehanna River), Wyoming Borough, Luzerne County, Pa. Applications (peak day) for surface water withdrawal of up to 5.760 mgd and consumptive use of up to 0.100 mgd.

Commission-Initiated Project Approval Modifications:

1. Project Sponsor: Knouse Foods Cooperative, Inc. Project Facility: Gardners Plant, Tyrone Township, Adams County, Pa. Conforming the grandfathered quantity with the forthcoming determination for a groundwater withdrawal of up to 0.183 mgd (30-day average) from Wells 3, 5, 6, 8, and 10 (Docket No. 20041211).

Authority: Pub. L. 91-575, 84 Stat. 1509 et seq., 18 CFR parts 806, 807, and 808.

Projects Tabled:

1. Project Sponsor and Facility: East Hempfield Township Municipal Authority, East Hempfield Township, Lancaster County, Pa. Applications for renewal of groundwater withdrawals (30-day averages) of up to 0.353 mgd from Well 6, 0.145 mgd from Well 7, 1.447 mgd from Well 8, and 1.660 mgd from Well 11, and Commission-initiated modification to Docket No. 20120906, which approves withdrawals from Wells 1, 2, 3, 4, and 5 and Spring S-1 (Docket Nos. 19870306, 19890503, 19930101, and 20120906).

2. Project Sponsor: Glenn O. Hawbaker, Inc. Project Facility: Naginey Facility, Armagh Township, Mifflin County, Pa. Applications for groundwater withdrawal of up to 0.300 mgd (30-day average) from the Quarry Pit Pond and consumptive use of up to 0.310 mgd (peak day).

Dated: September 20, 2021.
Jason E. Oyler,
General Counsel and Secretary to the Commission.

[FR Doc. 2021-20593 Filed 9-22-21; 8:45 am]

BILLING CODE 7040-01-P